DEPARTMENT OF AGRICULTURE

Forest Service

Notice of New Fee for Snow Peak Shelter; Federal Lands Recreation Enhancement Act, (Title VIII, Pub. L. 108-447)

AGENCY: Colville National Forest, USDA Forest Service.

ACTION: Notice of New Fee for Snow Peak Shelter.

SUMMARY: The Colville National Forest is planning to charge a $40.00 rental fee for overnight use of the Snow Peak Shelter. The Snow Peak Shelter has been a popular destination for day and overnight use within Colville National Forest and the public has indicated that they would like continued use of this structure. Funds from the rental will be used for the operation and maintenance of the Snow Peak Shelter.

DATES: The Snow Peak Shelter will be available for recreation rental in January 2009.

ADDRESSES: Rick Brazell, Forest Supervisor, Colville National Forest, 765 South Main Street, Colville, WA 99114.

For Additional Information, Please Contact: Carmen Nielsen, Outdoor Recreation Specialist, Three Rivers Ranger District, 255 West 11th, Kettle Falls, WA 99141, 509-738-7761.

SUPPLEMENTARY INFORMATION: The Federal Recreation Lands Enhancement Act (Title VIII, Pub. L. 108-447) directed the Secretary of Agriculture to publish a six-month advance notice in the Federal Register whenever new recreation fees are established. A market analysis indicates that the $40.00 per night rental fee is reasonable and acceptable for this unique recreational experience. This new fee will be reviewed by a Recreation Resource Advisory Committee prior to a final decision and implementation.

Rick Brazell,
Forest Supervisor.

[FR Doc. E8-9582 Filed 5-1-08; 8:45 am]

BILLING CODE 3410-11-M